DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: October 19, 2017, 10:00 a.m.

PLACE: Room 2C, 888 First Street NE., Washington, DC 20426.

STATUS: Open.

MATTERS TO BE CONSIDERED: Agenda. * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1036th—Meeting
Regular Meeting
[October 19, 2017 10:00 a.m.]
Item No. | Docket No. | Company
Administrative
A-1 | AD18-1-000 | Agency Administrative Matters.
A-2 | AD18-2-000 | Customer Matters, Reliability, Security and Market Operations.
A-3 | AD06-3-000 | Market Update.
A-4 | AD16-24-000 | Winter Operations and Market Performance in Regional Transmission Organizations and Independent System Operators.
| ER17-1567-000, ER15-623-000, EL15-29-000, ER16-372-000, EL17-32-000 | ODEC and Advanced Energy Management Alliance v. PJM Interconnection, L.L.C.
| EL17-36-000 | ISO New England Inc.
| ER17-1565-000, ER16-551-003, ER13-2266-004 | Algonquin Gas Transmission, LLC.
| RP16-618-000, ER17-1561-000, ER16-1404-000, ER16-120-001 ER16-120-003 | New York Independent System Operator, Inc.
| EL15-37-002, EL13-62-001 | Independent Power Producers of New York.
| EL13-62-002 | New York State Public Service Commission et al.
| EL16-92-001 | Midcontinent Independent System Operator, Inc.
| ER17-1570-000 | Midwest Independent Transmission System Operator, Inc.
| ER11-4081-000 | Coalition of MISO Transmission Customers v. Midcontinent Independent System Operator, Inc.
| EL16-112-001, ER17-892-000 | Public Citizen, et al. v. Midcontinent Independent System Operator, Inc.
| EL15-70-000, EL15-71-000, EL15-72-000, EL15-82-000 | Southwest Power Pool, Inc.
| ER17-1568-000, ER17-1568-001, EL16-110-000, ER16-1286-000, EL17-11-000, EL17-69-000, ER17-1575-000, ER17-1575-001, ER17-1092-000, ER17-1482-000 | California Independent System Operator Corporation.
| ER17-2312-000, ER17-2568-000, ER17-2412-000, ER17-2402-000, ER17-2311-000, ER17-2263-000, ER17-2237-000, ER17-1459-000, ER18-1-000
Electric
E-1 | RM17-11-000 | Revised Critical Infrastructure Protection Reliability Standard CIP-003-7—Cyber Security—Security Management Controls.
E-2 | RM15-11-002 | Reliability Standard for Transmission System Planned Performance for Geomagnetic Disturbance Events.
E-3 | ER15-1809-001, EL18-12-000 | ATX Southwest, LLC.
E-4 | ER15-958-003, ER15-958-004, EL18-13-000 | Transource Kansas, LLC.
E-5 | ER15-2236-001, EL18-14-000 | Midwest Power Transmission Arkansas, LLC.
E-6 | EL15-2237-001, ER15-2237-003, EL18-15-000 | Kanstar Transmission, LLC.
E-7 | ER15-2594-003, EL18-16-000, ER17-953-000 | South Central MCN LLC.
E-8 | EL16-110-000 | Southwest Power Pool, Inc.
E-9 | EL16-1286-002, EL16-110-001 | Southwest Power Pool, Inc.
E-10 | EL17-11-000 | Alabama Power Company v. Southwest Power Pool, Inc.
E-11 | EL17-69-000 | Buffalo Dunes Wind Project, LLC, Enel Green Power North America, Inc., Alabama Power Company, and Southern Company Services, Inc. v. Southwest Power Pool, Inc.
E-12 | ER17-1575-000, ER17-1575-001 | Southwest Power Pool, Inc.
E-13 | EL10-49-005 | Old Dominion Electric Cooperative and North Carolina Electric Membership Corporation v. Virginia Electric and Power Company.
E-14 | EL10-49-004 | Old Dominion Electric Cooperative and North Carolina Electric Membership Corporation v. Virginia Electric and Power Company.
E-15 | EL18-17-000 | Midcontinent Independent System Operator, Inc.
E-16 | ER16-471-001 | Midcontinent Independent System Operator, Inc.
E-17 | ER17-1000-000, ER17-1000-001, ER17-1013-000, ER17-1013-001 (not consolidated) | Midcontinent Independent System Operator, Inc.
E-18 | EL16-99-000, EL18-18-000 (consolidated) | Midcontinent Independent System Operator, Inc.
E-19 | ER16-1817-003, ER16-1346-002 | Midcontinent Independent System Operator, Inc.
E-20 | ER14-1242-006, ER14-2860-003, ER14-2862-003 | Midcontinent Independent System Operator, Inc.
E-21 | EL16-12-002, ER16-1817-002 | Internal MISO Generation v. Midcontinent Independent System Operator, Inc.
E-22 | ER17-2110-000 | ISO New England Inc.
E-23 | EL16-91-000, EL18-19-000 (consolidated) | Southwest Power Pool, Inc.
E-24 | ER17-998-000, EL17-61-000 | DATC Path 15, LLC.
Gas
G-1 | OMITTED.
G-2 | RP17-397-000 | Dominion Transmission, Inc.
G-3 | RP17-461-000 | Texas Eastern Transmission, LP.
G-4 | OR17-13-000 | GT Pipeline, LLC.
Hydro
H-1 | PL17-3-000 | Policy Statement on Establishing License Terms for Hydroelectric Projects.
H-2 | P-308-008 | PacifiCorp.
H-3 | P-14760-001, P-14761-001, P-14762-001 | Percheron Power, LLC.
| P-14763-001, P-14764-001 | NortHydro, LLC.
H-4 | EL16-50-001 | Percheron Power, LLC.
H-5 | P-2210-261 | Appalachian Power Company.

A free webcast of this event is available through www.ferc.gov. Anyone with Internet access who desires to view this event can do so by navigating to www.ferc.gov' s Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Issued: October 12, 2017.
Nathaniel J. Davis, Sr.,
Deputy Secretary.

[FR Doc. 2017-22545 Filed 10-13-17; 11:15 am]

BILLING CODE 6717-01-P